DEPARTMENT OF JUSTICE

Antitrust Division

Notice Pursuant to the National Cooperative Research and Production Act of 1993—PKI Forum, Inc.

Notice is hereby given that, on March 13, 2002, pursuant to section 6(a) of the National Cooperative Research and Production Act of 1993, 15 U.S.C. 4301 et seq. (“the Act”), PKI Forum, Inc. has filed written notifications simultaneously with the Attorney General and the Federal Trade Commission disclosing changes in its membership status. The notifications were filed for the purpose of extending the Act's provisions limiting the recovery of antitrust plaintiffs to actual damages under specified circumstances. Specifically, GlaxoSmithKline, Philadelphia, PA; Schlumberger Network Solutions, Houston, TX; and Japan PKI Forum, Tokyo, Japan have been added as parties to this venture. Also, Arthur Andersen, Houston, TX; Compaq Computer Corporation, Houston, TX; Conclusive Logic, Ltd., Maidenhead, Berkshire, United Kingdom; Digital Signature Trust Co., Salt Lake City, UT; Entegrity Solutions, Inc., San Jose, CA; Entrust Technologies, Ottawa, Ontario, Canada; Gemplus International, S.A., Redwood City, CA; SSE, Ltd., Dublin, Ireland; Chrysalis-its, Ottawa, Ontario, Canada; Certicom Corporation, Mississauga, Ontario, Canada; and Cryptomathic A/S, Aarhus C. Denmark have been dropped as parties to this venture.

No other changes have been made in either the membership or planned activity of the group research project. Membership in this group research project remains open, and PKI Forum, Inc. intends to file additional written notification disclosing all changes in membership.

On April 2, 2001, PKI Forum, Inc. filed its original notification pursuant to section 6(a) of the Act. The Department of Justice published a notice in the Federal Register pursuant to section 6(b) of the Act on May 3, 2001 (66 FR 22260).

The last notification was filed with the Department on January 2, 2002. A notice was published in the Federal Register pursuant to section 6(b) of the Act on February 25, 2002 (67 FR 8560).

Constance K. Robinson,
Director of Operations, Antitrust Division.

[FR Doc. 02-9694 Filed 4-19-02; 8:45 am]

BILLING CODE 4410-11-M